SECURITIES AND EXCHANGE COMMISSION

[Release No. 34-64153; File No. SR-CFE-2011-002]

Self-Regulatory Organizations; CBOE Futures Exchange, LLC; Notice of Filing and Immediate Effectiveness of a Proposed Rule Change Relating to Listing and Trading CBOE Gold ETF Volatility Index Security Futures

Correction

In notice document 2011-7981 appearing on pages 18818-18821 in the issue of Tuesday, April 5, 2011, make the following correction:

On page 18821, in the first column, in the second line from the top, “April 25, 2011” should read “April 26, 2011”.

[FR Doc. C1-2011-7981 Filed 4-22-11; 8:45 am]

BILLING CODE 1505-01-D